ENVIRONMENTAL PROTECTION AGENCY

[ER-FRL-6655-7]

Environmental Impact Statements; Notice of Availability

Responsible Agency: Office of Federal Activities, General Information (202) 564-7167 or http://www.epa.gov/compliance/nepa/.

Weekly receipt of Environmental Impact Statements

Filed September 6, 2004 Through September 10, 2004

Pursuant to 40 CFR 1506.9.

EIS No. 040431, DRAFT EIS, AFS, MT, Fishtrap Project, Proposed Timber Harvest, Prescribed Burning, Road Construction and Other Restoration Activities, Lolo National Forest, Plains/Thompson Falls Ranger District, Sanders County, MT, Comment Period Ends: November 1, 2004, Contact: Pat Partyka (406) 826-4314.

EIS No. 040432, DRAFT EIS, AFS, NM, Ojo Caliente Proposed Transmission Line, Propose to Authorize, Construct, Operate and Maintain a New 115kV Transmission Line and Substation, Carson National Forest and BLM Taos Field Office, Taos and Rio Arriba Counties, NM, Comment Period Ends: November 1, 2004, Contact: Ben Kuykendall (505) 758-6311.

EIS No. 040433, DRAFT EIS, NRC, NM, National Enrichment Facility (NEF), To Construct, Operate, and Decommission a Gas Centrifuge Uranium Enrichment Facility, License Application, NUREG-1790, near Eunice, Lea County, NM, Comment Period Ends: November 6, 2004, Contact: Melanie Wong (301) 415-6262.

EIS No. 040434, DRAFT EIS, IBR, UT, WY, Operation of Flaming Gorge Dam Colorado River Storage Project, To Protect and Assist in Recovery of Populations and Designated Critical Habitat of Four Endangered Fishes: Bonytail, Colorado Pikeminnow, Humpback Chub and Razorback Sucker, Green River, UT and WY, Comment Period Ends: November 15, 2004, Contact: Peter Crookston (801) 379-1152.

EIS No. 040435, DRAFT EIS, BLM, CA, NM, OR, California Coastal National Monument Resource Management Plan, To Protect Important Biological and Geological Values: Islands, Rocks, Exposed Reefs, and Pinnacles above Mean High Tide, CA, OR and Mexico, Comment Period Ends: December 16, 2004, Contact: Rick Hanks (831) 372-6115.

EIS No. 040436, DRAFT EIS, AFS, SD, WY, Black Hills National Forest Land and Resource Management Plan Phase II Amendment, Proposal to Amend the 1997 Land and Resource Management Plan, Custer, Fall River, Lawrence, Meade, and Pennington Counties, SD and Crook and Weston Counties, WY, Comment Period Ends: December 15, 2004, Contact: Jeff Ulrich (605) 673-9200. This document is available on the Internet at: http://www.fs.fed.us/r2/blackhills.

EIS No. 040437, DRAFT EIS, AFS, NH, ME, White Mountain National Forest, Propose Land and Resource Management Plan, Forest Plan Revision Implementation, Carroll, Coos and Grafton Counties, NH and Oxford County, ME, Comment Period Ends: December 15, 2004, Contact: Barbara Levesque (603) 528-8743.

EIS No. 040438, DRAFT EIS, DOD, Programmatic—Missile Defense Agency, To Incrementally Develop, Test, Deploy and Planning for Decommissioning of the Ballistic Missile Defense System (BMDS), Comment Period Ends: November 1, 2004, Contact: Martin Duke (703) 697-4248.

EIS No. 040439, DRAFT EIS, DHS, MD, National Biodefense Analysis and Countermeasures Center (NBACC) Facility at Fort Detrick, Construction and Operation, Fort Detrick, Frederick County, MD, Comment Period Ends: November 1, 2004, Contact: Kevin Anderson (301) 846-2156.

EIS No. 040440, DRAFT EIS, FHW, OH, US-24, Transportation Project, Improvements between Napoleon to Toledo, Funding, Lucas and Henry Counties, OH, Comment Period Ends: November 10, 2004, Contact: Mark Vonderembse (614) 280-6854.

EIS No. 040441, DRAFT EIS, FRC, CA, Upper North Fork Feather River Project (FERC-No. 2105), Issuing a New License for Existing 3517.3 megawatt (MW) Hydroelectric Facility, North Fork Feather River, Chester, Plumas County, CA, Comment Period Ends: November 1, 2004, Contact: John Mudre (202) 502-8902.

Amended Notices

EIS No. 040421, FINAL EIS, NPS, MD, VA, PA, DC, Chesapeake Bay Special Resource Study (SRS), To Conserve and Restore Chesapeake Bay, New Unit of the National Park System, MD, VA, PA and DC, Wait Period Ends: October 12, 2004, Contact: Jonathan Doherty (410) 267-5725. Revision of Federal Register Notice Published on 9/10/2004: Correction to Contact Person Name.

Dated: September 14, 2004.
Robert W. Hargrove,
Division Director, NEPA Compliance Division, Office of Federal Activities.

[FR Doc. 04-20986 Filed 9-16-04; 8:45 am]

BILLING CODE 6560-50-P